DEPARTMENT OF ENERGY

Federal Energy Regulatory Commission

Combined Notice of Filings #1

Take notice that the Commission received the following exempt wholesale generator filings:

Docket Numbers: EG19-154-000.

Applicants: Lapetus Energy Project, LLC.

Description: Self-Certification of Exempt Wholesale Generator Status of Lapetus Energy Project, LLC.

Filed Date: 7/23/19.

Accession Number: 20190723-5017.

Comments Due: 5 p.m. ET 8/13/19.

Docket Numbers: EG19-155-000.

Applicants: Palmer Solar, LLC.

Description: Self-Certification of Exempt Wholesale Generator Status of Palmer Solar, LLC.

Filed Date: 7/23/19.

Accession Number: 20190723-5019.

Comments Due: 5 p.m. ET 8/13/19.

Docket Numbers: EG19-156-000.

Applicants: South Field Energy LLC.

Description: Notice of Self-Certification of Exempt Wholesale Generator Status of South Field Energy LLC.

Filed Date: 7/23/19.

Accession Number: 20190723-5117.

Comments Due: 5 p.m. ET 8/13/19.

Take notice that the Commission received the following electric rate filings:

Docket Numbers: ER10-2794-031; ER14-2672-016; ER12-1825-029.

Applicants: EDF Trading North America, LLC, EDF Energy Services, LLC, EDF Industrial Power Services (CA), LLC.

Description: Notice of Non-Material Change in Status of EDF Trading North America, LLC, et al.

Filed Date: 7/22/19.

Accession Number: 20190722-5156.

Comments Due: 5 p.m. ET 8/12/19.

Docket Numbers: ER14-225-005; EL19-68-000.

Applicants: New Brunswick Energy Marketing Corporation.

Description: Response to May 25, 2019 Show Cause Order of New Brunswick Energy Marketing Corporation, et al.

Filed Date: 7/23/19.

Accession Number: 20190723-5110.

Comments Due: 5 p.m. ET 8/13/19.

Docket Numbers: ER19-1183-001; ER10-2434-010; ER10-2467-010; ER17-1666-007; ER18-1709-003; ER10-2436-010.

Applicants: Brickyard Hills Project, LLC, Fenton Power Partners I, LLC, Hoosier Wind Project, LLC, Red Pine Wind Project, LLC, Stoneray Power Partners, LLC, Wapsipinicon Wind Project LLC.

Description: Notice of Change in Status of the EDFR MISO Sellers et al.

Filed Date: 7/22/19.

Accession Number: 20190722-5157.

Comments Due: 5 p.m. ET 8/12/19.

Docket Numbers: ER19-2437-000.

Applicants: Emmons-Logan Wind, LLC.

Description: Baseline eTariff Filing: Emmons-Logan Wind, LLC Application for MBR Authority to be effective 9/21/2019.

Filed Date: 7/22/19.

Accession Number: 20190722-5131.

Comments Due: 5 p.m. ET 8/12/19.

Docket Numbers: ER19-2438-000.

Applicants: Hickory Run Energy, LLC.

Description: Request for Limited Waiver, et al. of Hickory Run Energy, LLC.

Filed Date: 7/22/19.

Accession Number: 20190722-5145.

Comments Due: 5 p.m. ET 8/1/19.

Docket Numbers: ER19-2439-000.

Applicants: Tampa Electric Company.

Description: Petition for Waiver of Affiliate Transaction Pricing Rule of Tampa Electric Company.

Filed Date: 7/23/19.

Accession Number: 20190723-5044.

Comments Due: 5 p.m. ET 8/13/19.

Docket Numbers: ER19-2440-000.

Applicants: Tri-State Generation and Transmission Association, Inc.

Description: Baseline eTariff Filing: Tri-State Stated Rate Filing, FERC Electric Tariff Volume No. 1 to be effective 9/21/2019.

Filed Date: 7/23/19.

Accession Number: 20190723-5061.

Comments Due: 5 p.m. ET 8/13/19.

Docket Numbers: ER19-2441-000.

Applicants: Tri-State Generation and Transmission Association, Inc.

Description: Baseline eTariff Filing: Baseline Open Access Transmission Tariff to be effective 9/21/2019.

Filed Date: 7/23/19.

Accession Number: 20190723-5063.

Comments Due: 5 p.m. ET 8/13/19.

Docket Numbers: ER19-2442-000.

Applicants: Tri-State Generation and Transmission Association, Inc.

Description: Baseline eTariff Filing: Tri-State Baseline Market-Based Rate Tariff to be effective 9/21/2019.

Filed Date: 7/23/19.

Accession Number: 20190723-5073.

Comments Due: 5 p.m. ET 8/13/19.

Docket Numbers: ER19-2443-000.

Applicants: Thermo Cogeneration Partnership, L.P.

Description: Baseline eTariff Filing: Thermo Cogeneration Baseline Market-Based Rate Tariff to be effective 9/21/2019.

Filed Date: 7/23/19.

Accession Number: 20190723-5075.

Comments Due: 5 p.m. ET 8/13/19.

Docket Numbers: ER19-2444-000.

Applicants: Tri-State Generation and Transmission Association, Inc.

Description: Baseline eTariff Filing: Tri-State Wholesale Electric Service Contracts to be effective 9/21/2019.

Filed Date: 7/23/19.

Accession Number: 20190723-5077.

Comments Due: 5 p.m. ET 8/13/19.

Docket Numbers: ER19-2445-000.

Applicants: Florida Power & Light Company.

Description: § 205(d) Rate Filing: FPL and LMR Solar Engineering and Construction for Affected System Agreement to be effective 7/24/2019.

Filed Date: 7/23/19.

Accession Number: 20190723-5131.

Comments Due: 5 p.m. ET 8/13/19.

Take notice that the Commission received the following electric reliability filings:

Docket Numbers: RR19-7-000.

Applicants: North American Electric Reliability Corporation.

Description: North American Electric Reliability Corporation Five-Year Electric Reliability Organization (ERO) Performance Assessment Report.

Filed Date: 7/22/19.

Accession Number: 20190722-5155.

Comments Due: 5 p.m. ET 8/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2019.
Nathaniel J. Davis, Sr.,
Deputy Secretary.

[FR Doc. 2019-16110 Filed 7-29-19; 8:45 am]

BILLING CODE 6717-01-P